FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[October 1, 2017 through October 31, 2017]
10/02/2017
20171788 | G | Agnaten SE; Louis Marie Stanislas Le Duff; Agnaten SE.
20171950 | G | H.B. Fuller Company; American Securities Partners VI, L.P.; H.B. Fuller Company.
20171984 | G | Littelfuse, Inc.; IXYS Corporation; Littelfuse, Inc.
20172006 | G | Fortive Corporation; Landauer, Inc.; Fortive Corporation.
10/03/2017
20171921 | G | Pi Jersey Topco Limited; Paysafe Group PLC; Pi Jersey Topco Limited.
20171930 | G | Welltok, Inc.; j2 Global, Inc.; Welltok, Inc.
20171997 | G | Holly Energy Partners, L.P.; Plains All American Pipeline, L.P.; Holly Energy Partners, L.P.
20171999 | G | CenterPoint Energy, Inc.; Tailwater Energy Fund II LP; CenterPoint Energy, Inc.
20172031 | G | Snow Phipps III, L.P.; RFE Investment Partners VII, L.P.; Snow Phipps III, L.P.
10/04/2017
20171975 | G | Aon plc; Colony NorthStar, Inc.; Aon plc.
20171994 | G | The Cooper Companies, Inc.; Teva Pharmaceutical Industries Ltd.; The Cooper Companies, Inc.
10/05/2017
20172020 | G | L Catterton VIII, L.P.; J.H. Whitney VII, L.P.; L Catterton VIII, L.P.
20172022 | G | Hainan Cihang Charitable Foundation; Glencore plc; Hainan Cihang Charitable Foundation.
20172029 | G | H.I.G. Advantage Buyout Fund, L.P.; The Resolute Fund II, L.P.; H.I.G. Advantage Buyout Fund, L.P.
10/06/2017
20172018 | G | MSouth Equity Partners III, L.P.; Trivest Fund IV, L.P.; MSouth Equity Partners III, L.P.
20172028 | G | SA Compagnie Industrielle de Delle; Michael W. Smith Trust Agreement dated 10/29/2010; SA Compagnie Industrielle de Delle.
10/10/2017
20172052 | G | Fortum Oyj; Uniper SE; Fortum Oyj.
10/11/2017
20172033 | G | IAC/InterActiveCorp.; Livestream Inc.; IAC/InterActiveCorp.
20172036 | G | Wijnand Nicolaas Pon; Todd L. Blue; Wijnand Nicolaas Pon.
20172043 | G | Albatros Holdco SAS; Desmarais Family Residuary Trust; Albatros Holdco SAS.
20172047 | G | Aurora Equity Partners V L.P.; VLS Recovery Services, LLC; Aurora Equity Partners V L.P.
20172056 | G | SAP SE; Gigya, Inc.; SAP SE.
20180008 | G | Anthem, Inc.; Highland Investor Holdings, LLC; Anthem, Inc.
10/12/2017
20172030 | G | 40 North Latitude Fund LP; Clariant Ltd.; 40 North Latitude Fund LP.
20172042 | G | j2 Global, Inc.; Humble Bundle, Inc.; j2 Global, Inc.
20180004 | G | Korea Electric Power Corporation; Canadian Solar Inc.; Korea Electric Power Corporation.
20180005 | G | KEPCO Woori Sprott Global Private Equity Fund; Canadian Solar Inc.; KEPCO Woori Sprott Global Private Equity Fund.
20180007 | G | GIP III Trophy Acquisition Partners, L.P.; The Energy & Minerals Group Fund II, LP; GIP III Trophy Acquisition Partners, L.P.
10/16/2017
20180009 | G | Quad-C Partners IX, L.P.; AIT Worldwide Logistics, Inc.; Quad-C Partners IX, L.P.
20180015 | G | The Resolute Fund III, L.P.; H.I.G. Advantage Buyout Fund, L.P.; The Resolute Fund III, L.P.
20180019 | G | ZMC II, L.P.; Mostafa Aghamiri; ZMC II, L.P.
20180020 | G | Kellogg Company; Chicago Bar Company LLC; Kellogg Company.
20180021 | G | Giovanni Ferrero; CP FCC Holdings, LLC; Giovanni Ferrero.
20180023 | G | Apax IX USD L.P.; Tosca Services, LLC; Apax IX USD L.P.
20180024 | G | Conagra Brands, Inc.; TPG Growth II DE AIV II, L.P.; Conagra Brands, Inc.
20180029 | G | Kuraray Co., Ltd.; Calgon Carbon Corporation; Kuraray Co., Ltd.
20180031 | G | The Resolute Fund III, L.P.; Young Innovations Holdings LLC; The Resolute Fund III, L.P.
10/17/2017
20172001 | G | Verizon Communications Inc.; Deutsche Telekom AG; Verizon Communications Inc.
20172002 | G | Deutsche Telekom AG; Verizon Communication Inc.; Deutsche Telekom AG.
20172055 | G | Foundation Holdings, LLC; Teva Pharmaceutical Industries Ltd.; Foundation Holdings, LLC.
20180028 | G | Littlejohn Fund V, L.P.; Willis Stein & Partners, III, L.P.; Littlejohn Fund V, L.P.
10/18/2017
20171802 | G | Jacobs Engineering Group Inc.; CH2M Hill Companies, Ltd.; Jacobs Engineering Group Inc.
20171820 | G | Motorola Solutions, Inc.; Airbus SE; Motorola Solutions, Inc.
20172014 | G | Catalent, Inc.; Cook Group Incorporated; Catalent, Inc.
20172045 | G | Bunge Limited; IOI Corporation Berhad; Bunge Limited.
20180003 | G | Trian Partners Strategic Investment Fund-N L.P.; Sysco Corporation; Trian Partners Strategic Investment Fund-N L.P.
20180006 | G | EQT VII (No. 1) Limited Partnership; Chicago Growth Partners II, LP; EQT VII (No. 1) Limited Partnership.
20180034 | G | Lindsay Goldberg IV-A L.P.; J. Carey Smith; Lindsay Goldberg IV-A L.P.
20180038 | G | Canyon Consolidated Resources, LLC; Galena Private Equity Resources Fund LP; Canyon Consolidated Resources, LLC.
20180042 | G | Dialog Semiconductor Plc; Silego Technology Inc.; Dialog Semiconductor Plc.
10/19/2017
20172064 | G | The Varde Fund XII (Master), L.P.; Newco LLC; The Varde Fund XII (Master), L.P.
20180001 | G | Trian Partners Strategic Investment Fund-N L.P.; DowDuPont Inc.; Trian Partners Strategic Investment Fund-N L.P.
20180032 | G | Safran SA; Zodiac Aerospace; Safran SA.
20180035 | G | Carlisle Companies Incorporated; Accella Performance Materials LLC; Carlisle Companies Incorporated.
20180053 | G | Vista Equity Partners Fund VI, L.P.; JAMF Holdings, Inc.; Vista Equity Partners Fund VI, L.P.
10/20/2017
20172019 | G | Berkshire Fund IX, L.P.; Iowa State University Foundation; Berkshire Fund IX, L.P.
20172024 | G | SoftBank Vision Fund (AIV M1) L.P.; Mapbox, Inc.; SoftBank Vision Fund (AIV M1) L.P.
20180027 | G | Olympus Growth Fund VI, L.P.; Quad-C Partners VIII, L.P.; Olympus Growth Fund VI, L.P.
20180033 | G | LKQ Corporation; Dover Corporation; LKQ Corporation.
10/23/2017
20172015 | G | Sierra Wireless, Inc.; Numerex Corp.; Sierra Wireless, Inc.
20180036 | G | American Midstream Partners, LP; Destin Pipeline Company, L.L.C.; American Midstream Partners, LP.
20180051 | G | CCMP Capital Investors III, L.P.; Ali D. Azadi; CCMP Capital Investors III, L.P.
20180054 | G | Audax Private Equity Fund V-A, L.P.; Ecolab Inc.; Audax Private Equity Fund V-A, L.P.
20180057 | G | New Mountain Partners V, L.P.; Cytel Inc.; New Mountain Partners V, L.P.
20180063 | G | bpost naamloze vennootschap van publiek recht/societe anoym; Radial I, L.P.; bpost naamloze vennootschap van publiek recht/societe anoym.
20180064 | G | Avista Capital Partners IV, L.P.; Miraca Holdings Inc.; Avista Capital Partners IV, L.P.
20180066 | G | AVIC International Holding (HK) Limited; Aviation Industry Corporation of China; AVIC International Holding (HK) Limited.
20180067 | G | Bison Capital Partners V, L.P.; TA X L.P.; Bison Capital Partners V, L.P.
20180069 | G | Blackstone Capital Partners (Cayman) VII; S-Process Equipment International S.a.r.l.; Blackstone Capital Partners (Cayman) VII.
20180075 | G | Guidewire Software, Inc.; Cyence Inc.; Guidewire Software, Inc.
10/24/2017
20180046 | G | Lovell Minnick Equity Partners IV LP; The Bank of New York Mellon Corporation; Lovell Minnick Equity Partners IV LP.
20180059 | G | Oaktree European Principal Fund IV, L.P.; AGC Integrated Defense Holdings LLC; Oaktree European Principal Fund IV, L.P.
20180065 | G | Rond Point Immobilier SAS; Exa Corporation; Rond Point Immobilier SAS.
10/25/2017
20180012 | G | Invesco Ltd.; Guggenheim Capital, LLC; Invesco Ltd.
20180037 | G | BlueFocus Communication Group Co., Ltd.; Cogint, Inc.; BlueFocus Communication Group Co., Ltd.
20180058 | G | Navient Corporation; Earnest Inc.; Navient Corporation.
20180073 | G | Office Depot, Inc.; Thomas H. Lee Equity Fund VI, L.P.; Office Depot, Inc.
10/26/2017
20180050 | G | Adventist Health System/West; The Fremont-Rideout Health Group; Adventist Health System/West.
20180113 | G | DigiCert Parent, Inc.; Symantec Corporation; DigiCert Parent, Inc.
20180114 | G | Symantec Corporation; DigiCert Parent, Inc.; Symantec Corporation.
10/27/2017
20171965 | G | Inception Topco, Inc.; Datapipe Holdings, LLC; Inception Topco, Inc.
10/30/2017
20180045 | G | Sentinel Capital Partners V, L.P.; Wingate Partners IV, L.P.; Sentinel Capital Partners V, L.P.
20180055 | G | Yuanxi Ye; LIXIL Group Corporation; Yuanxi Ye.
20180082 | G | Alphabet Inc.; Warburg Pincus Private Equity X, L.P.; Alphabet Inc.
20180091 | G | RWS Holdings Plc; Clarion Investors II, LP; RWS Holdings Plc.
20180092 | G | Novacap Industries IV, L.P.; Series B Investco Limited; Novacap Industries IV, L.P.
20180093 | G | Novacap Industries IV, L.P.; Strategic Value Special Situations Feeder Fund, L.P.; Novacap Industries IV, L.P.
20180096 | G | Aloha Parent, Inc.; Housatonic Equity Investors IV, L.P.; Aloha Parent, Inc.
20180101 | G | Cooke, Inc.; Omega Protein Corporation; Cooke, Inc.
20180102 | G | HollyFrontier Corporation; Holly Energy Partners, L.P.; HollyFrontier Corporation.
20180105 | G | TGP Investors II, LLC; TopGolf International, Inc.; TGP Investors II, LLC.
20180112 | G | William R. Berkley; W.R. Berkley Corporation; William R. Berkley.
20180117 | G | ArcLight Energy Partners Fund VI, L.P.; GEPI Bravo AIV, L.P.; ArcLight Energy Partners Fund VI, L.P.
20180118 | G | ArcLight Energy Partners Fund VI, L.P.; John Mork; ArcLight Energy Partners Fund VI, L.P.
10/31/2017
20171904 | G | Nabors Industries Ltd.; Tesco Corporation; Nabors Industries Ltd.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2017-24590 Filed 11-13-17; 8:45 am]

BILLING CODE 6750-01-P